GENERAL SERVICES ADMINISTRATION

41 CFR Parts 301-11 and 302-17

[FTR Amendment 2008-04; FTR Case 2008-303; Docket 2008-0002, Sequence 2]

RIN 3090-AI50

Federal Travel Regulation; Relocation Allowances; Relocation Income Tax (RIT) Allowance Tax Tables

AGENCY: Office of Governmentwide Policy, General Services Administration (GSA).

ACTION: Final rule.

SUMMARY: The General Services Administration (GSA) has determined that it will no longer publish the Federal, State, and Puerto Rico tax tables needed for calculating the relocation income tax (RIT) allowance in the Federal Register. These tax tables, for use in calculating the annual RIT allowance to be paid to relocating Federal employees, will be treated like changes to other tables of rates that implement long-standing policies, such as the domestic per diems, relocation mileage, and travel mileage rates, and be posted in a Federal Travel Regulation (FTR) bulletin. GSA will continue to publish policy changes in the Federal Register as amendments to the Federal Travel Regulation.

DATES: Effective Date: June 25, 2008.

FOR FURTHER INFORMATION CONTACT: For clarification of content, contact Mr. Ed Davis, Office of Governmentwide Policy (M), Office of Travel, Transportation and Asset Management (MT), General Services Administration at (202) 208-7638 or e-mail at ed.davis@gsa.gov. For information pertaining to status or publication schedules, contact the Regulatory Secretariat (VPR), Room 4041, GS Building, Washington, DC 20405, (202) 501-4755. Please cite FTR Amendment 2008-04; FTR Case 2008-303.

SUPPLEMENTARY INFORMATION:

A. Background

In previous years, the General Services Administration (GSA), Office of Governmentwide Policy published the annual tax tables for Federal, State, and Puerto Rico used for calculating the RIT allowance to be paid to relocating Federal employees, in the Federal Register. These tax tables have been located in 41 CFR part 302-17 as Appendices A through D.

This final rule informs Government agencies that the Federal, State, and Puerto Rico tax tables (41 CFR part 302-17, Appendices A through D) will no longer appear in the Federal Register or in 41 CFR part 302-17. From now on, these tax tables will be published similar to other tables of rates that implement long-standing policies, such as the domestic per diems, relocation mileage, and travel mileage rates, and appear as Federal Travel Regulation (FTR) bulletins. You may find the FTR bulletins with the annual RIT allowances at www.gsa.gov/ftrbulletin. The tax table will also be published at www.gsa.gov/relo. This final rule removes Appendices A through D of 41 CFR part 302-17, adds a new section to that part that will provide a cross reference to the tax tables, and amends references to part 302-17 Appendices A through D in applicable sections of the FTR.

These tax tables are developed from several sources of information (e.g., the IRS, individual state taxing authorities, and the Commonwealth of Puerto Rico Department of the Treasury). GSA has determined that publishing these tax tables annually in the Federal Register is a time consuming and costly process that will no longer be needed when this same information is posted as FTR bulletins. As a result of the newly implemented process, the information will be available to the agency and relocating employees in a more timely manner. As part of GSA mission to serve its Federal customers as quickly as permitted, this change in delivering the RIT Allowance Tables is now implemented by this final rule.

B. Summary of the Issues Involved

This final rule is a response to agency personnel who process relocation vouchers and must delay the reimbursements because they are waiting for the most current RIT Allowance Tables to be published. By moving to the FTR bulletin process, this information will be available for the calculation of reimbursements much earlier in the calendar year and will therefore benefit both agencies and their relocating employees.

C. Changes to Current FTR

This final rule removes Appendices A through D of 41 CFR part 302-17 and adds a new section 302-17.14 to that part which will serve as a cross-reference to the location of the calendar 2008 RIT Tables and all subsequent changes to the RIT Allowance Tables in FTR bulletins. This information will be able to be accessed at both www.gsa.gov/ftrbulletin and www.gsa.gov/relo. This final rule also amends numerous sections in FTR part 301-11, 302-17.5, 302-17.8, and 302-17.10.

D. Executive Order 12866

This final rule is excepted from the definition of “regulation” or “rule” under Section 3(d)(3) of Executive Order 12866, Regulatory Planning and Review, dated September 30, 1993 and, therefore, was not subject to review under Section 6(b) of that executive order.

E. Regulatory Flexibility Act

This final rule is not required to be published in the Federal Register for notice and comment; therefore, the Regulatory Flexibility Act, 5 U.S.C. 601, et seq., does not apply.

F. Paperwork Reduction Act

The Paperwork Reduction Act does not apply because the changes to the FTR do not impose recordkeeping or information collection requirements, or the collection of information from offerors, contractors, or members of the public that require the approval of the Office of Management and Budget under 44 U.S.C. 3501, et seq.

G. Small Business Regulatory Enforcement Fairness Act

This final rule is also exempt from congressional review prescribed under 5 U.S.C. 801 since it relates solely to agency management and personnel.

List of Subjects in 41 CFR Parts 301-11 and 302-17

Government Employees, Relocation, Travel and Transportation Expenses.

Dated: May 5, 2008.
David L. Bibb,
Acting Administrator of General Services.

For the reasons set out in the preamble, 41 CFR parts 301-11 and 302-17 are amended as set forth below:

PART 301-11—PER DIEM EXPENSES

1. The authority citation for 41 CFR part 301-11 continues to read as follows:

Authority: 5 U.S.C. 5707.

§ 301-11.524 [Amended]

2. Amend § 301-11.524 by removing from paragraph (a) the words “Appendices A, B, C, and D to part 302-11 of this title” and adding the words “the appropriate RIT tax table(s) located at www.gsa.gov/ftrbulletin” in its place.

§ 301-11.532 [Amended]

3. Amend § 301-11.532 by removing the words “Appendices A, B, C, and D to part 302-11 of this title” and adding the words “the appropriate RIT tax table(s) located at www.gsa.gov/ftrbulletin” in its place.

§ 301-11.535 [Amended]

4. Amend § 301-11.535 by—

a. Removing from paragraph (a)(1) the words “Appendices A, B, C, and D to part 302-11 of this title” and adding the words “the appropriate RIT tax table(s) located at www.gsa.gov/ftrbulletin” in its place; and

b. Removing from paragraph (b) the words “Appendix B to part 302-11 of this title” and adding the words “the state RIT tax table(s) located at www.gsa.gov/ftrbulletin” in its place.

§ 301-11.624 [Amended]

5. Amend § 301-11.624 by removing from paragraph (a) the words “Appendices A, B, C, and D to part 302-11 of this title” and adding the words “the appropriate RIT tax table(s) located at www.gsa.gov/ftrbulletin” in its place.

§ 301-11.632 [Amended]

6. Amend § 301-11.632 by removing the words “Appendices A, B, C, and D to part 302-11 of this title” and adding the words “the appropriate RIT tax table(s) located at www.gsa.gov/ftrbulletin” in its place.

§ 301-11.635 [Amended]

7. Amend § 301-11.635 by—

a. Removing from paragraph (a) the words “Appendices A, B, C, and D to part 302-11 of this title” and adding the words “the appropriate RIT tax table(s) located at www.gsa.gov/ftrbulletin” in its place; and

b. Removing from paragraph (b) the words “Appendix B to part 302-11 of this title” and adding the words “the state RIT tax table(s) located at www.gsa.gov/ftrbulletin” in its place.

PART 302-17—RELOCATION INCOME TAX (RIT) ALLOWANCE

8. The authority citation for 41 CFR part 302-17 is amended to read as follows:

Authority: 5 U.S.C. 5738; 20 U.S.C. 905(a); E.O. 11609, as amended, 36 FR 13747, 3 CFR, 1971-1975 Comp., p. 586.

§ 302-17.5 [Amended]

9. Amend § 302-17.5 by removing from the second sentence of paragraph (i) the words “provided in appendices A through D of this part” and adding the words “located at www.gsa.gov/ftrbulletin (see § 302-17.14)” in its place.

10. Amend § 302-17.8 by—

a. Removing from the last sentence of paragraph (a), the words “in Appendices A, B, and C of this part” and adding the words “in an annual Federal Travel Regulation (FTR) Bulletin (located at www.gsa.gov/ftrbulletin)” in its place;

b. Removing from the first sentence of paragraph (e)(1) the words “contained in appendices A and C of this part” and adding the words “located at www.gsa.gov/ftrbulletin” in its place; removing from the second sentence the words “(see appendix A of this part)” and adding the words “(see the appropriate RIT tax table(s) located at www.gsa.gov/ftrbulletin)” in its place; also, removing from the second sentence the words “(see appendix C of this part)” and adding the words “(see the appropriate RIT tax table(s) located at www.gsa.gov/ftrbulletin)” in its place; and removing from the fifth sentence the words “appendices A and C of this part” and adding the words “the appropriate RIT tax table(s) located at www.gsa.gov/ftrbulletin” in its place;

c. Removing from the first sentence of paragraph (e)(2)(i) the words “in appendix B of this part” and adding the words “located at www.gsa.gov/ftrbulletin” in its place;

d. Removing from the first sentence of paragraph (e)(2)(ii) the words “in appendix B of this part” and adding the words “located at www.gsa.gov/ftrbulletin” in its place and removing from the third sentence of paragraph (e)(2)(ii) the words “appendix B of this part” and adding the words “located at www.gsa.gov/ftrbulletin” in its place;

e. Removing from the last sentence of paragraph (e)(4)(i)(A) the words “contained in Appendix D of this part” and adding the words “located at www.gsa.gov/ftrbulletin” in its place; and

f. Removing from the third sentence of paragraph (e)(5) the words “prescribed in appendix B of this part” and adding the words “located at www.gsa.gov/ftrbulletin” in its place.

§ 302-17.10 [Amended]

11. Amend § 302-17.10 by removing from paragraph (a) the words “appendices A, B, and C of 41 CFR Part 302-17” and adding the words “the appropriate RIT tax table(s) located at www.gsa.gov/ftrbulletin” in its place.

12. Add § 302-17.14 to read as follows.

§ 302-17.14 Where can I find the tax tables used for calculating the relocation income tax (RIT) allowances?

The annual tax tables for Federal, State, and Puerto Rico needed for calculating RIT allowance are published annually as an FTR Bulletin. These Bulletins are located at www.gsa.gov/ftrbulletin. A notice announcing each new Bulletin will be published in the Federal Register.

Appendices A through D to part 302-17 [Removed]

13. Remove Appendices A through D to Part 302-17.

[FR Doc. E8-14276 Filed 6-24-08; 8:45 am]

BILLING CODE 6820-14-S